POSTAL SERVICE

39 CFR Part 111

Production, Distribution, and Use of Postage Meters (Postage Evidencing Systems) and Postal Security Devices

AGENCY: Postal Service.

ACTION: Extension of comment period.

SUMMARY: The Postal Service published a proposed rule for public comment in the Federal Register (66 FR 42820-42831) on August 15, 2001. Comments were due September 14, 2001. The comment period is hereby extended until September 25, 2001.

DATES: The Postal Service must receive your comments on or before September 25, 2001. No additional extensions on the comment period will be granted.

ADDRESSES: Mail or deliver written comments to the Manager, Postage Technology Management, 1735 N Lynn Street, Room 5011, Arlington, VA 22209-6050. You can view and copy all written comments at the same address between 9 a.m. and 4 p.m., Monday through Friday.

FOR FURTHER INFORMATION CONTACT: James Luff, 703-292-3693.

Stanley F. Mires,
Chief Counsel, Legislative.

[FR Doc. 01-23800 Filed 9-19-01; 4:46 pm]

BILLING CODE 7710-12-P